ENVIRONMENTAL PROTECTION AGENCY

[FRL-9678-3; Docket ID No. EPA-HQ-ORD-2012-0276]

An Assessment of Potential Mining Impacts on Salmon Ecosystems of Bristol Bay, AK

AGENCY: Environmental Protection Agency (EPA).

ACTION: Notice of public comment period.

SUMMARY: The U.S. Environmental Protection Agency (EPA) is announcing a public comment period for the draft document titled, “An Assessment of Potential Mining Impacts on Salmon Ecosystems of Bristol Bay, Alaska” (EPA-910-R-12-004a-d). The document was prepared by the EPA's Region 10 (Pacific Northwest and Alaska), EPA's Office of Water, and EPA's Office of Research and Development. The EPA conducted this assessment to determine the significance of Bristol Bay's ecological resources and evaluate the potential impacts of large-scale mining on these resources. EPA will use the results of this assessment to inform the consideration of options consistent with its role under the Clean Water Act. The assessment is intended to provide a scientific and technical foundation for future decision making; EPA will not address use of its regulatory authority until the assessment becomes final and has made no judgment about whether and how to use that authority at this time.

DATES: The public comment period began Friday, May 18, 2012, and ends Monday, July 23, 2012. Technical comments should be in writing and must be received by EPA by Monday, July 23, 2012.

ADDRESSES: The draft “An Assessment of Potential Mining Impacts on Salmon Ecosystems of Bristol Bay, Alaska” is available primarily via the Internet on the EPA Region 10 Bristol Bay Web site at www.epa.gov/bristolbay as well as on the National Center for Environmental Assessment's Web site under the Recent Additions and the Data and Publications menus at www.epa.gov/ncea. A printed copy of the assessment will be placed at public locations in Bristol Bay and in Anchorage, AK. These locations are listed on the Region 10 Web site. A limited number of paper copies are available from the Information Management Team, NCEA; telephone: 703-347-8561; facsimile: 703-347-8691. If you are requesting a paper copy, please provide your name, your mailing address, and the document title, “An Assessment of Potential Mining Impacts on Salmon Ecosystems of Bristol Bay, Alaska.” Please also indicate if a paper copy of the full set of appendices is needed.

Comments on the report may be submitted electronically via www.regulations.gov, by email, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or email: ORD.Docket@epa.gov.

For technical information concerning the report, contact Judy Smith; telephone: 503-326-6994; facsimile: 503-326-3399; or email: r10bristolbay@epa.gov.

SUPPLEMENTARY INFORMATION:

I. Information About the Project/Document

The U.S. Environmental Protection Agency (EPA) conducted this assessment to determine the significance of Bristol Bay's ecological resources and evaluate the potential impacts of large-scale mining on these resources. The EPA will use the results of this assessment to inform the consideration of options consistent with its role under the Clean Water Act. The assessment is intended to provide a scientific and technical foundation for future decision making. The Web site that describes the project is www.epa.gov/bristolbay. This draft document addresses potential impacts to water quality and the salmon fishery that may result from large-scale mining in the Nushagak and Kvichak watersheds of southwest Alaska.

EPA is releasing this draft assessment for the purposes of public comment and peer review. This draft assessment is not final as described in EPA's information quality guidelines, and it does not represent and should not be construed to represent Agency policy or views. EPA utilizes public comments as one means to ensure that science products are complete and accurate. EPA is seeking comments from the public on all aspects of the report, including the scientific and technical information presented in the report, the hypothetical mining scenario used, the data and information used to inform assumptions about mining activities and the evaluations of risk to the fishery, and the potential mitigation measures considered (and effectiveness of those measures). EPA is also specifically seeking any additional data or scientific or technical information about Bristol Bay resources or large-scale mining that should be considered in our evaluation.

EPA will consider any public comments submitted in accordance with this notice when revising the document. After public review and comment, EPA's independent contractor, Versar, Inc., will convene an expert panel for independent external peer review of this draft assessment. The public comment period and external peer review meeting are separate processes that provide opportunities for all interested parties to comment on the assessment. The preferred method to submit comments is through the docket, which is described below. Public meetings will be held in Anchorage, Dillingham, Newhalen, Naknek, Nondalton, and New Stuyahok, AK during the week of June 4-8, 2012. Spoken comments will be accepted at these meetings. The external peer review panel meeting is scheduled to be held in Anchorage, AK on August 7, 8, and 9, 2012. The public will be invited to attend on August 7 and 8, 2012. Further information regarding the external peer review panel meeting will be announced at a later date in the Federal Register.

II. How To Submit Technical Comments to the Docket at www.regulations.gov

Submit your comments, identified by Docket ID No. EPA-HQ-ORD-2012-0276, by one of the following methods:

• www.regulations.gov: Follow the on-line instructions for submitting comments.

• Email: ORD.Docket@epa.gov. Include the docket number EPA-HQ-ORD-2012-0276 in the subject line of the message.

• Fax: 202-566-1753.

• Mail: Office of Environmental Information (OEI) Docket (Mail Code: 2822T), Docket # EPA-HQ-ORD-2012-0276, U.S. Environmental Protection Agency, 1200 Pennsylvania Ave. NW., Washington, DC 20460. The phone number is 202-566-1752. If you provide comments by mail, please submit one unbound original with pages numbered consecutively, and three copies of the comments. For attachments, provide an index, number pages consecutively with the comments, and submit an unbound original and three copies.

• Hand Delivery: The OEI Docket is located in the EPA Headquarters Docket Center, Room 3334, EPA West Building, 1301 Constitution Ave. NW., Washington, DC. The EPA Docket Center Public Reading Room is open from 8:30 a.m. to 4:30 p.m., Monday through Friday, excluding legal holidays. The telephone number for the Public Reading Room is 202-566-1744. Deliveries are only accepted during the docket's normal hours of operation, and special arrangements should be made for deliveries of boxed information. If you provide comments by hand delivery, please submit one unbound original with pages numbered consecutively, and three copies of the comments. For attachments, provide an index, number pages consecutively with the comments, and submit an unbound original and three copies.

• Comment at a public meeting: Spoken comments will be taken at public meetings during June 4-8, 2012. A court reporter will provide a transcription of comments received at the Anchorage and Dillingham meetings for the docket. Audio recording and written notes will be taken for the docket for comments spoken at Naknek, Newhalen, New Stuyahok, and Nondalton.

Instructions: Direct your comments to Docket ID No. EPA-HQ-ORD-2012-0276. Please ensure that your comments are submitted within the specified comment period. Comments received after the closing date will be marked “late,” and may only be considered if time permits. It is EPA's policy to include all comments it receives in the public docket without change and to make the comments available on-line at www.regulations.gov, including any personal information provided, unless a comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comments due to technical difficulties and cannot contact you for clarification, EPA may not be able to consider your comments. Electronic files should avoid the use of special characters and any form of encryption and be free of any defects or viruses. For additional information about EPA's public docket, visit the EPA Docket Center homepage at www.epa.gov/epahome/dockets.htm.

Docket: Documents in the docket are listed in the www.regulations.gov_index. Although listed in the index, some information is not publicly available, e.g., CBI or other information whose disclosure is restricted by statute. Certain other material, such as copyrighted material, will be publicly available only in hard copy. Publicly available docket materials are available either electronically at www.regulations.gov or in hard copy at the OEI Docket in the EPA Headquarters Docket Center.

Dated: May 21, 2012.
Darrell Winner,
Acting Director, National Center for Environmental Assessment.

[FR Doc. 2012-12808 Filed 5-24-12; 8:45 am]

BILLING CODE 6560-50-P